DEPARTMENT OF JUSTICE

Antitrust Division

Notice Pursuant to the National Cooperative Research and Production Act of 1993—Appliance Research Corporation (Formerly Known as Appliance Research Consortium, Inc.)

Notice is hereby given that, on May 24, 2006, pursuant to section 6(a) of the National Cooperative Research and Production Act of 1993, 15 U.S.C. 4301 et seq. (“the Act”), Appliance Research Corporation (“the ARC”) has filed written notifications simultaneously with the Attorney General and the Federal Trade Commission disclosing changes in its membership and in its nature and objectives. The notifications were filed for the purpose of extending the Act's provisions limiting the recovery of antitrust plaintiffs to actual damages under specified circumstances. Specifically, The Association of Home Appliance Manufacturers, Washington, DC; GE Consumer & Industrial, Louisville, KY; Whirlpool Corporation, Benton Harbor, MI; Electrolux, Home Care Products NA, Peoria, IL; Marvel Industries, Div of Northland Corp.; Richmond, IN; Sub-Zero Freezer Company, Inc., Madison, WI; Sanyo E & E Corporation, San Diego, CA; W.C. Wood Company Limited, Guelph, Ontario, Canada; and Viking, Greenwood, MS have been added as parties to this venture.

The purpose of the ARC is to conduct research to promote the general welfare of the home appliance industry, and specifically to evaluate environmentally preferable alternatives to ozone depleting substances.

No other changes have been made in either the membership or planned activity of the group research project. Membership in this group research project remains open, and the ARC intends to file additional written notification disclosing all changes in membership.

On September 19, 1989, the ARC filed its original notification pursuant to section 6(a) of the Act. The Department of Justice published a notice in the Federal Register pursuant to section 6(b) of the Act on November 1, 1989 (54 FR 46136).

The last notification was filed with the Department on March 9, 2001. A notice was published in the Federal Register pursuant to section 6(b) of the Act on April 9, 2001 (66 FR 18512).

Dorothy B. Fountain,
Deputy Director of Operations, Antitrust Division.

[FR Doc. 06-5735 Filed 6-27-06; 8:45 am]

BILLING CODE 4410-11-M